DEPARTMENT OF JUSTICE

Notice of Lodging of Proposed Consent Decree Under the Clean Water Act

On April 29, 2024, the Department of Justice lodged a proposed Consent Decree with the United States District Court for the Southern District of Ohio in the lawsuit entitled United States and the State of Ohio v. Sunoco Pipeline, L.P. et al., Civil Action No. 1:24-cv-00238-SJD.

The complaint filed in the above matter alleges that Defendants Sunoco Pipeline L.P. and Mid-Valley Pipeline Company violated the Clean Water Act when crude oil escaped from a ruptured pipeline and flowed into waters of the United States. 33 U.S.C. 1321(b)(3). The crude oil contaminated the waters and caused damage to natural resources in violation of the Oil Pollution Act. 33 U.S.C. 2702(a) and (b). The proposed settlement resolves the claims in the complaint and requires payment of a civil penalty of $550,000 and a payment of $1,250,000 to compensate for harm to natural resources.

The publication of this notice opens a period for public comment on the proposed Consent Decree. Comments should be addressed to the Assistant Attorney General, Environment and Natural Resources Division and should refer to United States and the State of Ohio v. Sunoco Pipeline, L.P. et al., D.J. Ref. Nos. 90-5-1-1-11543 and 90-5-1-1-11543/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the Consent Decree may be examined and downloaded at this Justice Department website: http://www.justice.gov/enrd/consent-decrees. If you require assistance accessing the Consent Decree, you may request assistance by email or by mail to the address provided above for submitting comments.

Laura Thoms,
Assistant Section Chief, Environmental Enforcement Section, Environment and Natural Resources Division.

[FR Doc. 2024-09707 Filed 5-2-24; 8:45 am]

BILLING CODE 4410-15-P